DEPARTMENT OF ENERGY

Federal Energy Regulatory Commission

Combined Notice of Filings #2

Take notice that the Commission received the following electric rate filings:

Docket Numbers: ER13-1999-001.

Applicants: Midcontinent Independent System Operator, Inc.

Description: Midcontinent Independent System Operator, Inc. submits tariff filing per 35: 10-17-13 Attachment VV Compliance to be effective 9/27/2013.

Filed Date: 10/17/13.

Accession Number: 20131017-5103.

Comments Due: 5 p.m. ET 11/7/13.

Docket Numbers: ER13-2063-001.

Applicants: California Independent System Operator Corporation.

Description: California Independent System Operator Corporation submits tariff filing per 35.17(b): 2013-10-17_MandatoryMSGDelay to be effective 4/1/2014.

Filed Date: 10/17/13.

Accession Number: 20131017-5109.

Comments Due: 5 p.m. ET 11/7/13.

Docket Numbers: ER13-2118-001.

Applicants: NedPower Mount Storm, LLC.

Description: NedPower Mount Storm, LLC submits tariff filing per 35: Compliance Filing—Amendment to Previous Filing of 080613 to be effective 10/18/2013.

Filed Date: 10/17/13.

Accession Number: 20131017-5105.

Comments Due: 5 p.m. ET 11/7/13.

Docket Numbers: ER14-116-000.

Applicants: American Electric Power Service Corporation, Ohio Power Company, AEP Ohio Transmission Company, Inc., PJM Interconnection, L.L.C.

Description: AEP submits 39th Revised Service Agreement No. 1336 to be effective 6/10/2013.

Filed Date: 10/17/13.

Accession Number: 20131017-5099.

Comments Due: 5 p.m. ET 11/7/13.

Docket Numbers: ER14-117-000.

Applicants: Midcontinent Independent System Operator, Inc.

Description: Midcontinent Independent System Operator, Inc. submits tariff filing per 35.13(a)(2)(iii: 10-17-13 Attachment WW to be effective 12/17/2013.

Filed Date: 10/17/13.

Accession Number: 20131017-5104.

Comments Due: 5 p.m. ET 11/7/13.

Docket Numbers: ER14-118-000.

Applicants: NaturEner Glacier Wind Energy 1, LLC.

Description: NaturEner Glacier Wind Energy 1, LLC submits tariff filing per 35.15: Notice of Cancellation of Temporary Use Agreement to be effective 10/18/2013.

Filed Date: 10/17/13.

Accession Number: 20131017-5107.

Comments Due: 5 p.m. ET 11/7/13.

Docket Numbers: ER14-119-000.

Applicants: San Diego Gas & Electric Company.

Description: San Diego Gas & Electric Company submits tariff filing per 35.13(a)(2)(iii: SDG&E Concurrence to LGIA Between CAISO, SDG&E, and Mesquite Solar 1, LLC to be effective 1/1/2014.

Filed Date: 10/17/13.

Accession Number: 20131017-5117.

Comments Due: 5 p.m. ET 11/7/13.

Take notice that the Commission received the following electric securities filings:

Docket Numbers: ES14-4-000.

Applicants: MidAmerican Energy Company.

Description: Application for Authorization under Section 204 of MidAmerican Energy Company under ES14-4.

Filed Date: 10/17/13.

Accession Number: 20131017-5098.

Comments Due: 5 p.m. ET 11/7/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 17, 2013.
Nathaniel J. Davis, Sr.,
Deputy Secretary.

[FR Doc. 2013-25531 Filed 10-28-13; 8:45 am]

BILLING CODE 6717-01-P